DEPARTMENT OF THE INTERIOR

National Park Service

Notice of Inventory Completion: The Public Museum, Grand Rapids, MI

AGENCY: National Park Service, Interior.

ACTION: Notice.

Notice is here given in accordance with the Native American Graves Protection and Repatriation Act (NAGPRA), 25 U.S.C. 3003, of the completion of an inventory of human remains and associated funerary objects in the possession of The Public Museum, Grand Rapids, MI. The human remains and associated funerary objects were removed from Kent County, MI.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains and associated funerary objects was made by The Public Museum's professional staff in consultation with the Grand Traverse Band of Ottawa and Chippewa Indians, Michigan; Little River Band of Ottawa Indians, Michigan; and Little Traverse Bay Bands of Odawa Indians, Michigan.

At an unknown date, human remains representing a minimum of one individual were removed from an unknown location in Kent County, MI. On June 16, 1962, the human remains were obtained by Ruth Herrick from Bert Chaffee. In 1974, the human remains were obtained by The Public Museum from Ruth Herrick by bequest. No known individual was identified. The three associated funerary objects are one strike-a-light, one fish vertebrae, and one perforated bone.

The context from which the human remains and associated funerary objects were removed is unknown.

Based on artifact typology, the human remains and associated funerary objects date to the 18th century. The objects were found stored together with human remains and are consistent with other 18th century funerary objects found in Kent County during the historic occupation of the Ottawa.

At an unknown date, human remains representing a minimum of four individuals were removed from the N. Franklin Avenue site (20KT109) in Grandville, Kent County, MI. The site was inadvertently discovered by construction workers and reported by E.V. Gillis in The Coffinberry News Bulletin of the Michigan Archaeological Society in 1962. In 1963, the human remains were donated to The Public Museum by the City of Grandville. No known individuals were identified. The 23 associated funerary objects are 1 wooden spoon, 1 wooden spoon fragment, 1 metal knife, 1 iron fragment, 1 metal razor, 1 metal handle fragment, 1 strike-a-light, 1 copper tube bead, 1 clam shell, 1 set of bird bones, 1 set of iron fragments with fabric adhering, 1 iron axe, 1 set of nail fragments, 1 birch bark basket fragment, 1 copper mirror frame, 1copper pot with fabric adhering, 1 fabric fragment, 1 glass fragment, 4 copper kettles, and 1 set of brooch pins.

Based on artifact typology, the human remains and associated funerary objects date to the 18th and 19th centuries.

At an unknown date, human remains representing a minimum of one individual were removed from underneath Cook's bridge over the Thornapple River at Cascade Township site (20KT18), Kent County, MI. In 1925, the human remains were donated to The Public Museum by W.H. Patterson. No known individual was identified. No associated funerary objects are present.

Physical examination identified the human remains as Native American. Funerary objects found at the site are consistent with those objects frequently found in Native American burials from the 18th century, although none of the funerary objects are present in the museum's collection.

At an unknown date, human remains representing a minimum of one individual were removed from 185 Ottawa (site 20KT109) in Grandville, Kent County, MI. The human remains and associated funerary objects were uncovered by the property owner's children while digging in their yard. In 1949, the human remains were donated to The Public Museum by the property owners, Jan and James Buddingh. No known individual was identified. The 231 associated funerary objects are 1 copper armband, 1 carved antler handle, 1 bone awl, 1 copper thimble, 1 copper kettle, 1 set of iron fragments, 1 set of wood fragments, 1 set of textile fragments, 2 sets of wood fragments with textile adhering, 1 wooden spoon fragment, 209 trade beads, 6 metal earrings, 2 metal rings, 1 metal brooch pin, 1 set of gravels, and 1 set of copper fragments.

Based on artifact typology, the human remains and associated funerary objects date to the 18th and 19th century. The associated funerary objects are consistent with other funerary objects found in the area of Grandville, MI, during the historic occupation of the Ottawa.

At an unknown date, human remains representing a minimum of one individual were removed from the Warner farm site (20KT20), located on the Grand River, west of Ada and on the north side of M-21, Kent County, MI. In 1974, The Public Museum obtained the human remains from Ruth Herrick by bequest. No known individual was identified. Stored with the individual were associated funerary objects that are in groupings of uncounted fragments. The seven associated funerary object groupings are two lots of pottery shard fragments, three lots of animal bone fragments, one lot of fire cracked rock fragments, and one lot of other stone fragments.

The human remains and associated funerary objects from the Warner farm site date from the Late Woodland period to A.D. 1850. Based on the site's geographical location at the confluence of the Grand and Thornapple Rivers, archeological evidence indicates this site was intermittently occupied from prehistoric times into the historic era.

All of the human remains and associated funerary objects described above from the Kent County sites are, by a preponderance of the evidence, culturally affiliated with the present-day Federally-recognized Little River Band of Ottawa Indians, Michigan, whose ancestors include the Grand River Ottawa Bands. The historic occupation of Kent County, MI, by the Little River Band of Ottawa Indians is well documented.

Officials of The Public Museum have determined that, pursuant to 25 U.S.C. 3001 (9-10), the human remains described above represent the physical remains of eight individuals of Native American ancestry. Officials of The Public Museum also have determined that, pursuant to 25 U.S.C. 3001 (3)(A), the 264 associated funerary objects described above are reasonably believed to have been placed with or near individual remains at the time of death or later as part of the death rite or ceremony. Lastly, officials of The Public Museum have determined that, pursuant to 25 U.S.C. 3001 (2), there is a relationship of shared group identity that can be reasonably traced between the Native American human remains and associated funerary objects and the Little River Band of Ottawa Indians, Michigan.

Representatives of any other Indian tribe that believes itself to be culturally affiliated with the human remains and associated funerary objects should contact Marilyn Merdzinski, Director of Collections and Preservation, The Public Museum, 272 Pearl St. NW., Grand Rapids, MI 49504, telephone (616) 456-3521, before September 21, 2009. Repatriation of the human remains and associated funerary objects to the Little River Band of Ottawa Indians, Michigan may proceed after that date if no additional claimants come forward.

The Public Museum is responsible for notifying the Grand Traverse Band of Ottawa and Chippewa Indians, Michigan; Little River Band of Ottawa Indians, Michigan; and Little Traverse Bay Bands of Odawa Indians, Michigan that this notice has been published.

Dated: July 24, 2009.
Sherry Hutt,
Manager, National NAGPRA Program.

[FR Doc. E9-19974 Filed 8-19-09; 8:45 am]

BILLING CODE 4312-50-S